NATIONAL AERONAUTICS AND SPACE ADMINISTRATION

48 CFR Parts 1811 and 1852

Packaging, Handling, and Transportation

AGENCY: National Aeronautics and Space Administration (NASA).

ACTION: Final rule.

SUMMARY: This is a final rule amending the NASA FAR Supplement (NFS) to add guidance for packaging, handling, and transportation of certain kinds of aeronautical and space equipment. A NASA policy directive containing these policies already exists, and the new NFS material adds a contract clause which directs the contractor to perform packaging and handling as provided in the policy directive.

EFFECTIVE DATE: June 13, 2000.

FOR FURTHER INFORMATION CONTACT: James H. Dolvin, NASA Headquarters, Office of Procurement, Contract Management Division (Code HK), (202) 358-1279, email: jdolvin1@mail.hq.nasa.gov.

SUPPLEMENTARY INFORMATION:

A. Background

Some NASA programs require the development of aeronautical and space equipment which, when transported from one place to another, require the use of special kinds of packaging, handling methods, and transportation procedures. At present, there is a NASA policy directive which has instructions for these procedures, but there is no contract clause in the NFS to require the contractor to perform packaging and handling as provided in the directive. This final rule adds such a clause to the NFS.

B. Regulatory Flexibility Act

NASA certifies that this final rule will not have a significant economic impact on a substantial number of small business entities within the meaning of the Regulatory Flexibility Act (5 U.S.C. 601, et seq.), because it only applies in those instances when a small business entity is providing either Class I , II, or III items.

C. Paperwork Reduction Act

The Paperwork Reduction Act does not apply because the changes to the NFS do not impose any recordkeeping or information collection requirements, or collection of information from offerors, contractors, or members of the public that require the approval of the Office of Management and Budget under 44 U.S.C. 3501, et seq.

List of Subjects in 48 CFR Parts 1811 and 1852

Government Procurement.

Tom Luedtke,
Associate Administrator for Procurement.

Acccordingly, 48 CFR Parts 1811 and 1852 is amended as follows:

1. The authority citation for 48 CFR Parts 1811 and 1852 continues to read as follows:

Authority: 42 U.S.C. 2473(c)(1).

PART 1811—DESCRIBING AGENCY NEEDS

2. Amend paragraph (b) of section 1811.002 by removing the word “shall” and adding “must” in its place.

1811.002 [Amended]

3. Amend paragraph (a)(3) of section 1811.403 by removing the word “shall” and adding “must” in its place.

4. Add section 1811.403-70 to read as follows:

1811.403-70 Packaging, handling, and transportation.

(a) NPG 6000.1E, “Requirements for Packaging, Handling, and Transportation for Aeronautical and Space Systems, Equipment, and Associated Components” provides guidance for shipment of certain NASA items.

(b) Contracting officers, with the advice of the requiring activity and the Center Transportation Officer, must include a designation of each deliverable item, or groupings of deliverable items, as Class I, II, III, or IV for purposes of contractor compliance with the NPG.

1811.404 [Amended]

5. Amend paragraphs (a)(2) and (a)(3) of section 1811.404 by removing the word “shall” and adding “must” in its place.

6. Add section 1811.404-70 to read as follows:

1811.404-70 NASA contract clauses.

The clause at 1852.211-70, Packaging, Handling, and Transportation, must be included in solicitations and contracts for deliverable items, including software, designated as Class I (mission essential), Class II (delicate or sensitive), or Class III (requires special handling or monitoring).

1811.502 [Amended]

7. Amend paragraph (d) of section 1811.502 by removing the word “shall” and adding “must” in its place.

1811.602 [Amended]

8. Amend paragraph (c) of section 1811.602 by removing the word “shall” and adding “must” in its place.

1811.603 [Amended]

9. Amend paragraph (e)(iii) of section 1811.603 by removing the word “shall” and adding “must” in its place.

PART 1852—SOLICITATION PROVISIONS AND CONTRACT CLAUSES

10. Add section 1852.211-70 to read as follows:

1852.211-70 Packaging, handling, and transportation.

As prescribed in 1811.404-70, insert the following clause:

Packaging, Handling, and Transportation—June 2000

(a) The Contractor shall shall comply with NPG 6000.1E, “Requirements for Packaging, Handling, and Transportation for Aeronautical and Space Systems, Equipment, and Associated Components”, dated April 26, 1999, as may be supplemented by the statement of work or specifications of this contract, for all items designated as Class I, II, or III.

(b) The Contractor's packaging, handling, and transportation procedures may be used, in whole or in part, subject to the written approval of the Contracting Officer, provided (1) the Contractor's procedures are not in conflict with any requirements of this contract, and (2) the requirements of this contract shall take precedence in the event of any conflict with the Contractor's procedures.

(c) The Contractor must place the requirements of this clause in all subcontracts for items that will become components of deliverable Class I, II, or III items.

(End of clause)

[FR Doc. 00-14753 Filed 6-12-00; 8:45 am]

BILLING CODE 7510-01-U